DEPARTMENT OF TRANSPORTATION

Surface Transportation Board

[STB Ex Parte No. 661]

Rail Fuel Surcharges

AGENCY: Surface Transportation Board, DOT.

ACTION: Notice of proposed requiremetns regarding rail fuel surcharges.

SUMMARY: The Surface Transportation Board has instituted a proceeding to seek public comments on proposed measures regarding railroad practices involving fuel surcharges. These changes are intended to address concerns raised at the Board's public hearing on May 11, 2006, and in written comments received in this proceeding.

DATES: Comments are due on September 25, 2006.

ADDRESSES: Comments may be submitted either via the Board's e-filing format or in the traditional paper format. Any person using e-filing should comply with the instructions found on the Board's http://www.stb.dot.gov Web site, at the “E-FILING” link. Any person submitting a filing in the traditional paper format should send an original and 10 paper copies of the filing (referring to STB Ex Parte No. 661) to: Surface Transportation Board, 1925 K Street, NW., Washington, DC 20423-0001.

FOR FURTHER INFORMATION CONTACT: Joseph Dettmar, (202) 565-1609. [Assistance for the hearing impaired is available through the Federal Information Relay Service (FIRS) at 1-800-877-8339.]

SUPPLEMENTARY INFORMATION: The Surface Transportation Board has instituted a proceeding to seek public comments on the following proposed measures regarding railroad practices involving fuel surcharges. First, pursuant to the Board's proposed changes, a carrier wishing to assess what purports to be a fuel surcharge would need to develop a means of computing the surcharge that is more closely linked to the increases in the portion of its fuel costs that is attributable to the movement to which the fuel surcharge is applied. Second, carriers would be prohibited from “double dipping” by charging for the same increases in fuel costs for the same shipment both through a fuel surcharge and through application of a rate escalator that is based on an index such as the Board's Railroad Cost Adjustment Factor without first subtracting out any fuel cost component from that index. Third, railroads would be required to use a single, uniform index for measuring increases in the fuel costs—the Energy Information Administration “U.S. No. 2 Diesel Retail Sales by All Sellers (Cents per Gallon).” Finally, each Class I railroad would submit a monthly report to the Board showing its actual total fuel costs, total fuel consumption and total fuel surcharge revenues, as well as how much of its total fuel surcharge revenues are shared with its shortline connections. The Board seeks public comment on these proposals.

In a decision served on August 3, 2006, the Board has discussed each of these proposals in detail and explained how each addresses concerns raised in this proceeding. Because these proposals have significance for rail carriers and their shippers, all interested parties are invited to comment.

Additional information is contained in the Board's decision. To obtain a free copy of the full decision, visit the Board's http://www.stb.dot.gov Web site.

The Board certifies that the proposed rules would not have a significant economic impact on a substantial number of small entities.

These actions should not significantly affect the quality of the human environment. While we do not believe these actions would have a substantial effect on the conservation of energy resources, any effect they might have should be beneficial.

Decided: August 3, 2006.
By the Board, Chairman Buttrey and Vice Chairman Mulvey.
Vernon A. Williams,
Secretary.

[FR Doc. E6-12982 Filed 8-9-06; 8:45 am]

BILLING CODE 4915-01-P